DEPARTMENT OF ENERGY

Federal Energy Regulatory Commission

[Docket No. ER95-1528-007, et al.]

Wisconsin Public Service Corporation, et al.; Electric Rate and Corporate Filings

October 1, 2003.

The following filings have been made with the Commission. The filings are listed in ascending order within each docket classification.

1. Wisconsin Public Service Corporation; WPS Energy Services, Inc.; WPS Power Development, Inc. (and its subsidiaries)

[Docket No. ER95-1528-007 and ER96-1088-032]

Take notice that on September 26, 2003 Wisconsin Public Service Corporation, WPS Energy Services, Inc., and WPS Power Development, Inc. (PDI) submitted a notice of change in status to reflect the September 19, 2003 acquisition by PDI Stoneman, Inc., a PDI subsidiary, of a 33⅓% ownership interest in Mid-American Power LLC (Mid American), owner of a 54 MW plant in the Dairyland Power Cooperative control area. This change in status does not affect the market analysis under consideration in the above-captioned proceeding.

WPS states that copies were served on the Public Service Commission of Wisconsin and the participants in the above-captioned dockets.

Comment Date: October 17, 2003.

2. Northern Indiana Public Service Company

[Docket No. ER96-399-005]

Take notice that on September 26, 2003, Northern Indiana Public Service Company filed a refund report in compliance with the order issued by the Commission on December 30, 2002, 101 FERC ¶ 61,394.

Northern Indiana Public Service Company states that copies of this filing have been sent all parties on the Commission's official service list.

Comment Date: October 17, 2003.

3. Allegheny Power

[Docket No. ER03-309-006]

Take notice that on September 29, 2003, Allegheny Energy Service Corporation, on behalf of Monongahela Power Company, The Potomac Edison Company and West Penn Power Company, doing business as Allegheny Power (Allegheny Power), tendered for filing with the Federal Energy Regulatory Commission an amendment to their August 28, 2003 compliance filing in PJM Interconnection, L.L.C., et al., 104 FERC ¶ 61,154. Allegheny Power requests that the Commission accept the amendment to the Interconnection and Operating Agreement to become effective December 20, 2002.

Comment Date: October 20, 2003.

4. Westar Energy, Inc.

[Docket No. ER03-939-002]

Take notice that on September 29, 2003, Westar Energy, Inc. (Westar) submitted for filing a revised Electric Interconnection Contract modified to conform Service Schedule D to the unbundling requirements of Order No. 888 and reflect the actual effective date, based on the closing of the transaction between Westar and Midwest Energy, Inc., in Docket No. EC03-23-000. This filing is in compliance with the Commission's August 29, 2003 Order in Docket No. ER03-939-000.

Westar states that a copy of this filing was served upon the Kansas Corporation Commission and Aquila.

Comment Date: October 20, 2003.

5. Midwest Independent Transmission System Operator, Inc.

[Docket No. ER03-1018-001]

Take notice that on September 29, 2003, the Midwest Independent Transmission System Operator, Inc. (Midwest ISO) submitted for filing proposed revisions to Schedule 10—ISO Cost Recovery Adder of its Open Access Transmission Tariff, FERC Electric Tariff, Second Revised Volume No.1, in compliance with the Commission August 29, 2003 Order Accepting, In Part, and Rejecting, In Part, Proposed Tariff Revisions, 104 FERC ¶ 61,231. Midwest ISO has requested the original effective date of September 1, 2003.

Midwest ISO has also requested waiver of the service requirements set forth in 18 CFR 385.2010. The Midwest ISO states that it has electronically served a copy of this filing, with attachments, upon all Midwest ISO Members, Member representatives of Transmission Owners and Non-transmission Owners, the Midwest ISO Advisory Committee participants, as well as all state commissions within the region. In addition, Midwest ISO states the filing has been electronically posted on the Midwest ISO's Web site at www.midwestiso.org under the heading “Filings to FERC” for other interested parties in this matter. Midwest ISO states that they will provide hard copies to any interested parties upon request.

Comment Date: October 20, 2003.

6. Portland General Electric Company

[Docket No. ERO3-1027-001]

Take notice that on September 26, 2003, Portland General Electric Company (PGE) filed a refund report as Ordered by the Commission in Docket No. ER03-1027-000.

PGE states that copies of the filing were served upon the Oregon Public Utility Commission.

Comment Date: October 17, 2003.

7. Western Systems Power Pool

[Docket No. ER03-1149-001]

Take notice that on September 16, 2003, Western Systems, Power Pool (WSPP) submitted a revised cover-page of the WSPP Agreement and a revised table of contents. WPSS states that they inadvertently omitted these changes from the filing WSPP Agreement by Commission Order dated September 11, 2003.

Comment Date: October 10, 2003.

8. Westar Energy, Inc.

[Docket No. ER03-1183-002]

Take notice that on September 26, 2003, Westar Energy, Inc. (Westar) submitted for filing corrections to certain revised sheets of Second Revised Rate Schedule FERC No. 264, Electric Transmission and Service Contract between Westar Energy, Inc. and Kansas Electric Power Cooperative, Inc. (KEPCo). Westar states that these corrections include suggestions of FERC Staff to make certain definitions more clear. Specifically, Westar notes that definition 1.19 on First Revised Sheet No. 7 has been changed to more clearly define the Westar Zone. Westar further states other changes have been made to Fourth Revised Sheet No. 40 to more clearly define points of interconnection.

Westar state that copies of this filing was served upon the Kansas Corporation Commission and KEPCo.

Comment Date: October 17, 2003.

9. EnerConnect, Inc.

[Docket No. ER03-1343-000]

Take notice that on September 15, 2003, EnerConnect, Inc. submitted for filing a Notice of Cancellation of its Market-Base Rate Authority (MBRA) in Docket No. ER96-1424-000. EnerConnect, Inc. states that it has never used the MBRA in any transactions or conducted business that would required an MBRA. EnerConnect Inc is requesting an effective date of September 9, 2003.

Comment Date: October 10, 2003.

10. Tampa Electric Company

[Docket No. ER03-1392-000]

Take notice that on September 26, 2003, Tampa Electric Company (Tampa Electric) tendered for filing notices of cancellation of the service agreements under its open access transmission tariff with the following customers: Dynegy Power Marketing, Inc.; Reliant Energy Services, Inc.; and SCANA Energy Marketing, Inc. Tampa Electric proposes that the cancellations be made effective on October 1, 2003.

Tampa Electric states that copies of the filing have been served on the affected customers and the Florida Public Service Commission.

Comment Date: October 17, 2003.

11. Aquila, Inc.

[Docket No. ER03-1393-000]

Take notice that on September 26, 2003, Aquila, Inc. (Aquila), filed with the Commission, pursuant to section 205 of the Federal Power Act, 16 U.S.C. 824d, and part 35 of the Commission's regulations, a Temporary Interconnection Agreement between Aquila, Inc. d/b/a Aquila Networks—WPK and the Glen Elder City Government dated as of September 2, 2003. Aquila states that the Interconnection Agreement is filed as Service Agreement No. 106 to Aquila's FERC Electric Tariff, Third Revised Volume No. 26. Aquila requests that the Agreement be made effective September 2, 2003.

Comment Date: October 17, 2003.

12. Hartford Steam Company

[Docket ER03-1394-000]

Take notice that on September 26, 2003, Hartford Steam Company (Hartford Steam) submitted for filing pursuant to Schedule 205 of the Federal Power Act and part 35 of the Commission's regulations, the Energy Purchase Agreement EPA, by and between Hartford Steam and The Connecticut Light and Power Company (CL&P). Under the terms of the EPA, Hartford Steam will sell to CL&P for resale excess energy produced by its 7.5 MW cogeneration facility. Hartford Steam requests a waiver of the Commission's notice requirements to permit the EPA to become effective as of September 1, 2000.

Comment Date: October 17, 2003.

13. New England Power Company

[Docket No. ER03-1395-000]

Take notice that on September 26, 2003, New England Power Company (NEP) submitted for filing: (i) Second Revised Service Agreement No. 6 between NEP and its affiliate, Granite State Electric Company (Granite State), under NEP's FERC Electric Tariff, Original Volume No. 1; and (ii) Second Revised Service Agreement No. 109 between NEP and its affiliate, Massachusetts Electric Company (MECO), under NEP's FERC Electric Tariff, Second Revised Volume No. 9.

NEP states that copies of this filing have been served on Granite State, MECO and regulators in the states of Massachusetts and New Hampshire.

Comment Date: October 17, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00041 Filed 10-14-03; 8:45 am]

BILLING CODE 6717-01-P